DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action By Trade Adjustment Assistance For Period February 20, 2004-March 19, 2004
Firm name | Address | Date petition accepted | Product
Payson Casters, Inc. | 2323 Delaney Road, Gurnee, IL 60031 | 2/20/2004 | Casters and caster parts
Hallmark Sweet, Inc. | 49 Pearl Street, Attleboro | 3/1/2004 | Precious metal beads, chain and jewelry, jewelry findings
It Straps On Inc., dba Core Products | 17578 Hard Hat Drive, Covington, LA 70435 | 3/2/2004 | Stainless steel straps
Biddle Precision Components, Inc. | 701 South Main Street, Sheridan, IN 46060 | 3/2/2004 | Precision machined parts—hydraulic directional control valve spools, threaded plumbing tube systems, hydraulic pistons, hydraulic transmission parts
Peter Curtis d.b.a. Curtis Furniture Company | 25465 NY State Route 342, Evans Mills, NY 13637 | 3/2/2004 | Wood furniture
Kenwalt Die Casting Corporation | 8719 Bradley Avenue, Sun Valley, CA 91352 | 3/2/2004 | Aluminum and zinc castings
Aero-Med Molding Technologies, Inc. | 50 Westfield Avenue, Ansonia, CA 06401 | 3/5/2004 | Parts of aircraft seats, trays, bowls, tumblers, cups and parts of educational learning devices
Kentucky Ceramics, LLC | 731 Brent Street, Louisville, KY 40204 | 3/9/2004 | Tableware and kitchenware
Burgess Manufacturing of OK, Inc. | 1250 Roundhouse Road, Guthrie, OK 73044 | 3/10/2004 | Wooden pellets
Creative Foam Corporation | 300 North Alloy Drive, Fenton, MI 48430 | 3/11/2004 | Plastic foam products, i.e. door and dashboard seals, pool floats, and medical foam devices
Vanson Leathers, Inc. | 951 Broadway, Fall River, MA 02724 | 3/12/2004 | Leather jackets and coats

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter.A request for a hearing must be received by Trade Adjustment Assistance, Room 7315, Economic Development Administration, U.S. Department of Commerce, Washington, DC 20230, no later than the close of business of the tenth calendar day following the publication of this notice.The Catalog of Federal Domestic Assistance official program number and title of the program under which these petitions are submitted is 11.313, Trade Adjustment Assistance.

Dated: March 16, 2004.
Anthony J. Meyer,
Coordinator, Trade Adjustment and Technical Assistance.

[FR Doc. 04-6415 Filed 3-22-04; 8:45 am]

BILLING CODE 3510-24-P